DEPARTMENT OF THE INTERIOR

Office of Surface Mining Reclamation and Enforcement

Black Mesa and Kayenta Coal Mines, Coal Slurry Preparation Plant and Pipeline, and Coconino Aquifer Water-Supply System, Coconino, Mohave, Navajo, and Yavapai Counties, AZ, and Clark County, NV

AGENCY: Office of Surface Mining Reclamation and Enforcement, Interior.

ACTION: Reopening of comment period for the Black Mesa Project draft environmental impact statement (EIS).

SUMMARY: The Office of Surface Mining Reclamation and Enforcement (OSM) is reopening the comment period for the proposed Black Mesa Project draft EIS and preferred alternative. Since the close of the extended comment period on the draft EIS on February 6, 2007, the scope of the proposed project has been reduced. The proposed project no longer includes supplying coal to the Mohave Generating Station (MGS). The draft EIS is the same document as previously issued, and comments are solicited on the preferred alternative as described in this notice. Previously submitted comments will be considered in the final EIS and do not need to be resubmitted.

DATES: To ensure consideration in the preparation of the final EIS, written comments must be received by OSM by 4 p.m., m.d.t., on July 7, 2008.

ADDRESSES: The draft EIS is available for review on OSM's Internet Web site at http://www.wrcc.osmre.gov/WR/BlackMesaEIS.htm. Paper and computer compact disk (CD) copies of the draft EIS are also available for review at the Office of Surface Mining, Western Region, 1999 Broadway, Suite 3320, Denver, Colorado 80202-5733.

Comments on the Black Mesa Project draft EIS and preferred alternative may be submitted in writing or by e-mail over the Internet. At the top of your letter or in the subject line of your e-mail message, indicate that the comments are “BMP Draft EIS Comments.” Include your name and return address in your letter or e-mail message.

• E-mail comments should be sent to BMKEIS@osmre.gov. If you do not receive a confirmation from the system that OSM has received your e-mail comment, contact the person identified in FOR FURTHER INFORMATION CONTACT below.

• Written comments sent by first-class or priority U.S. Postal Service should be mailed to: Dennis Winterringer, Leader, Black Mesa Project EIS, OSM Western Region, P.O. Box 46667, Denver, Colorado 80201-6667.

• Comments delivered by U.S. Postal Service Express Mail or by courier service should be sent to: Dennis Winterringer, Leader, Black Mesa Project EIS, OSM Western Region, 1999 Broadway, Suite 3320, Denver, Colorado 80202-5733.

FOR FURTHER INFORMATION CONTACT: Dennis Winterringer, Leader, Black Mesa Project EIS, OSM Western Region, by telephone at (303) 293-5048, or by e-mail at BMKEIS@osmre.gov.

SUPPLEMENTARY INFORMATION:

I. Reopening of the Comment Period

II. Background on the Black Mesa Project EIS

III. Public Comment Procedures

I. Reopening of the Comment Period

On November 22 and December 1, 2006, OSM and the Environmental Protection Agency respectively published in the Federal Register notices announcing availability of the Black Mesa Project draft EIS for comment (71 FR 67637 and 71 FR 69562).

On January 16 and 19, 2007, OSM and EPA respectively published in the Federal Register notices extending the comment period (72 FR 1764 and 72 FR 2512). The extended comment period closed on February 6, 2007.

Because of events that have occurred since the close of the comment period for the draft EIS, OSM is reopening the comment period. Previously submitted comments will be considered in the final EIS and do not need to be resubmitted.

The draft EIS identified Alternative A, which contemplated continued coal supply to the MGS, as the proposed project and preferred alternative. In letters dated February 25 and April 30, 2008, Peabody Western Coal Company (Peabody) notified OSM that it no longer intended to supply coal to MGS because it believed the reopening of MGS is remote, but it would continue to supply coal to the Navajo Generating Station. Peabody also stated its intention to amend the pending permit revision application for the Black Mesa Mine Complex to remove proposed plans and activities that supported supplying coal to MGS. By amending the permit revision application, the proposed project would be reduced to permitting the Black Mesa Complex mining operations as described and analyzed as Alternative B of the draft EIS. Alternative B is now the preferred alternative.

II. Background on the Black Mesa Project EIS

Pursuant to the National Environmental Policy Act of 1969 (NEPA), OSM prepared a draft EIS analyzing the effects of the proposed Black Mesa Project. It analyzed effects of the following three alternatives.

Alternative A

• Approval of Peabody's life-of-mine permit revision for the Black Mesa Mine Complex (Black Mesa and Kayenta Mines), including mining of coal to supply the Mohave Generating Station, a new coal wash plant and associated coal waste disposal, and construction, use, and maintenance of a new haul road between mine areas on the southern ends of Peabody's coal leases;

• Approval of Black Mesa Pipeline's existing coal-slurry preparation plant and rebuilding the 273-mile-long coal-slurry pipeline to the Mohave Generating Station; and

• Approval of a new Coconino Aquifer water-supply system, including a 108-mile-long pipeline to convey the water to the minesite.

Alternative B

• Conditional approval of Peabody's life-of-mine permit revision, including incorporation of the Black Mesa Mine surface facilities and coal deposits into the Kayenta Mine permit area and construction, use, and maintenance of a haul road between mine areas on the southern ends of Peabody's coal leases;

• No approval for coal mining at the Black Mesa Mine to supply the Mohave Generating Station;

• No approval to reconstruct the coal-slurry pipeline; and

• No approval to construct the Coconino Aquifer water-supply system.

Alternative C

• Disapproval of Peabody's life-of-mine permit revision.

○ No approval for mining coal at the Black Mesa Mine to supply the Mohave Generating Station but continued operation of mining at the Kayenta Mine to supply coal to the Navajo Generating Station, because Peabody already has an approved permit for this mine and has the right of successive permit renewals;

○ No incorporation of Black Mesa Mine surface facilities and coal deposits into the Kayenta Mine permit area;

• No approval to reconstruct the coal-slurry pipeline; and

• No approval to construct the Coconino Aquifer water-supply system.

At the time the draft EIS was released, the purpose of the proposed project was to continue to supply coal to MGS and to the Navajo Generating Station, and Alternative A in the draft EIS described the proposed project. In letters dated February 25 and April 30, 2008, Peabody notified OSM that it did not intend to continue to supply coal to MGS in the future because it believed the reopening of MGS is remote. Peabody would continue to supply coal to the Navajo Generating Station and stated its intention to amend the pending permit revision application for the Black Mesa Mine Complex to remove proposed plans and activities that supported supplying coal to MGS. Specifically, the pending permit revision application would be amended to (1) remove the plans for a coal wash plant and coal waste disposal site, (2) modify the probable hydrologic consequences section of the application to indicate use of 1,236 ac-ft/yr of Navajo aquifer water for domestic and mine-related uses instead of the initially proposed long-term average of about 2,000 ac-ft/yr for mine-related uses and as a backup water supply to the proposed new Coconino aquifer water supply, and (3) remove the plan for a new road between the southern parts of its coal leases. By amending the permit revision application, the proposed project is reduced to permitting the Black Mesa Complex mining operations as described and analyzed as Alternative B of the draft EIS, except that the new road that was included in Alternative B is no longer being proposed. In the analysis of alternative B in the draft EIS, OSM had considered the impacts of the proposed new road that would have disturbed 127 acres. With elimination of the plans for a new proposed road, the impacts would be less than those identified in the draft EIS for Alternative B.

More information about the project and EIS can be found on OSM's Internet Web site at http://www.wrcc.osmre.gov/WR/BlackMesaEIS.htm.

III. Public Comment Procedures

Written Comments: If you submit written comments, they should be specific, confined to issues pertinent to the draft EIS, and explain the reason for any recommended changes. Please indicate the chapter, page, paragraph, and sentence of the draft EIS your comments pertain to.

We will make every attempt to log all comments into the record for this draft EIS; however, we cannot ensure that comments received after the close of the comment period (see DATES) or sent to a location other than those listed above (see ADDRESSES) will be included in the record and considered.

Public Availability of Comments: Before including your address, phone number, e-mail address, or other personal identifying information in your comment, you should be aware that your entire comment—including your personal identifying information—may be made publicly available at any time. While you can ask us in your comment to withhold your personal identifying information from public review, we cannot guarantee that we will be able to do so.

Dated: May 6, 2008.
Allen D. Klein,
Regional Director, Western Region.

[FR Doc. E8-11265 Filed 5-22-08; 8:45 am]

BILLING CODE 4310-05-P